DEPARTMENT OF THE INTERIOR

National Park Service

[NPS-WASO-NAGPRA-20509; PPWOCRADN0-PCU00RP14.R50000]

Notice of Inventory Completion: U.S. Army Corps of Engineers, Mobile District, Mobile, AL

AGENCY: National Park Service, Interior.

ACTION: Notice.

SUMMARY: The U.S. Army Corps of Engineers, Mobile District has completed an inventory of human remains and associated funerary objects, in consultation with the appropriate Indian tribes, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Mobile District. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Mobile District at the address in this notice by May 5, 2016.

ADDRESSES: Mr. Michael Fedoroff, U.S. Army Corps of Engineers, Mobile District, 109 St. Joseph Street, P.O. Box 2288, Mobile, AL 36628-0001, telephone (251) 694-4114, email Michael.P.Fedoroff@usace.army.mil.

SUPPLEMENTARY INFORMATION: Notice is here given in accordance with the Native American Graves Protection and Repatriation Act (NAGPRA), 25 U.S.C. 3003, of the completion of an inventory of human remains and associated funerary objects under the control of the Mobile District. The human remains and associated funerary objects were removed from the Burnt Village Site, 9TP9, Troup County, GA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Mobile District in consultation with representatives of the following Indian tribes: Absentee-Shawnee Tribe Indians of Oklahoma; Alabama-Coushatta Tribe of Texas (previously listed as the Alabama-Coushatta Tribes of Texas; Alabama-Quassarte Tribal Town; Catawba Indian Nation (aka Catawba Tribe of South Carolina); Cherokee Nation; Chitimacha Tribe of Louisiana; Coushatta Tribe of Louisiana; Eastern Band of Cherokee Indians; Eastern Shawnee Tribe of Oklahoma; Jena Band of Choctaw Indians; Kialegee Tribal Town; Miccosukee Tribe of Indians; Mississippi Band of Choctaw Indians; Poarch Band of Creeks (previously listed as the Poarch Band of Creek Indians of Alabama); Shawnee Tribe; Seminole Tribe of Florida (previously listed as the Seminole Tribe of Florida (Dania, Big Cypress, Brighton, Hollywood & Tampa Reservations)); The Chickasaw Nation; The Choctaw Nation of Oklahoma; The Muscogee (Creek) Nation; The Seminole of Oklahoma; Thlopthlocco Tribal Town; Tunica-Biloxi Indian Tribe; and United Keetoowah Band of Cherokee Indians in Oklahoma, hereafter “The Consulted Tribes.”

History and Description of the Remains

Between 1966 and 1968, human remains representing, at minimum, 21 individuals were removed from the Burnt Village Site in Troup County, GA. The excavations were conducted by the University of Georgia, on behalf of the Mobile District's response to the construction of the West Point Lake reservoir. The human remains have been housed at the University of Georgia since their removal from the site, but are under the control of Mobile District. The human remains were determined to be Native American based on skeletal morphology, burial and site context, and artifact associations. No known individuals were identified during the excavations. The 5,281 associated funerary objects are 6 metal armbands, 37 metal bells, 5 copper bracelets, 64 metal buckles and fasteners, 34 metal buttons, 14 metal rings, 3 metal neckbands, 33 metal cone ornaments, 31 metal ornaments, 33 metal tinklers, 5 metal fragments with beads, 4,067 beads (glass, shell, clay, seed), 11 lots of beads, 3 shell ornaments, 3 brass thimbles, 3 metal nails, 2 fragments iron knife blade, 2 pieces horse bridle, 3 metal tools, 28 pieces of metal/metal fragments, 2 ceramic balls/knobs, 2 ceramic bowls, 441 prehistoric ceramic sherds, 6 clay fragments, 27 pieces of daub, 14 lithic flakes or shatter, 2 lithic projectile points, 1 stone gaming piece, 4 pipe stems, 19 fragments of fabric, 2 fragments of fabric with beads, 10 pieces of cord, thread, or string, 1 mirror fragment, 3 glass fragments, 1 glass bottle, 1 cork, 7 musket balls, 9 gun flints, 6 pieces unmodified shell,1 lot modified mica, 1 piece mica, 172 pieces unmodified fauna, 1 piece modified fauna, 24 fire cracked rock, 89 rocks, 4 samples of botanical remains, 1 piece sandstone, 29 pieces of organic material (e.g., botanicals and wood), 6 pieces of charcoal, 2 pieces red ochre, and 6 samples of charcoal and soil.

Eight lines of evidence support a cultural affiliation finding for the Burnt Village Site including geographical, archeological, anthropological, linguistic, folklore, oral tradition, historical, and expert opinion. Geographically, the Burnt Village site is the location of the historically known Creek Town of Okfuskeneena. The site is located within established Creek Indian territory on the western bank of the central Chattahoochee River in Troup County, Georgia. This area is both within treaty designated Creek lands, and land known through historic and ethnographic accounts as being home to the Creek Indians. Archeological investigations of the site confirmed historical accounts of the village location, which was recorded as being attacked on September 27, 1793, by white settlers. Evidence includes diagnostic artifacts that correspond to those expected and described in historical accounts. Anthropological examination of the physical human remains also reflects expected physical characteristics, trauma, and injuries as described in the historical accounts. Linguistic and folkloric evidence for settlements in the area reflect a Creek occupation of the central Chattahoochee River Valley, including the area of the Burnt Village site.

Historic accounts indicate that the survivors of Creek Town of Okfuskeneena fled and were welcomed into neighboring Creek polities, which eventually became part of the Creek Confederations. Oral tradition provided by tribal members further clarify that the descendents of the Town of Okfuskeneena currently reside within, and are part of, The Muscogee (Creek) Nation.

Determinations Made by the Mobile District

Officials of the Mobile District have determined that:

• Pursuant to 25 U.S.C. 3001(9), the human remains described in this notice represent the physical remains of 21 individuals of Native American ancestry.

• Pursuant to 25 U.S.C. 3001(3)(A), the 5,281 associated funerary objects described above are reasonably believed to have been placed with or near individual human remains at the time of death or later as part of the death rite or ceremony.

• Pursuant to 25 U.S.C. 3001(2), there is a relationship of shared group identity that can be reasonably traced between the Native American human remains and associated funerary objects and The Muscogee (Creek) Nation.

Additional Requestors and Disposition

Representatives of any Indian tribe or Native Hawaiian organization not identified in this notice that wish to request transfer of control of these human remains and funerary objects should submit a written request with information in support of the request to Mr. Michael Fedoroff, U.S. Army Corps of Engineers, Mobile District, 109 St. Joseph Street, P.O. Box 2288, Mobile, Alabama 36628-0001, telephone (251) 694-4114, email Michael.P.Fedoroff@usace.army.mil, by May 5, 2016. After that date, if no additional requestors have come forward, transfer of control of the human remains and associated funerary objects to The Muscogee (Creek) Nation may proceed.

The Mobile District is responsible for notifying The Consulted Tribes that this notice has published.

Dated: March 3, 2016.
Melanie O'Brien,
Manager, National NAGPRA Program.

[FR Doc. 2016-07765 Filed 4-4-16; 8:45 am]

BILLING CODE 4312-50-P